DEPARTMENT OF COMMERCE

Foreign-Trade Zones Board

[Order No. 1854]

Reorganization of Foreign-Trade Zone 155 Under Alternative Site Framework; Calhoun and Victoria Counties, Texas

Pursuant to its authority under the Foreign-Trade Zones Act of June 18, 1934, as amended (19 U.S.C. 81a-81u), the Foreign-Trade Zones Board (the Board) adopts the following Order:

Whereas, the Board adopted the alternative site framework (ASF) (74 FR 1170-1173, 01/12/2009; correction 74 FR 3987, 01/22/2009; 75 FR 71069-71070, 11/22/2010) as an option for the establishment or reorganization of zones;

Whereas, the Calhoun-Victoria Foreign Trade Zone, Inc., grantee of Foreign-Trade Zone 155, submitted an application to the Board (FTZ Docket 29-2012, filed 04/09/2012) for authority to reorganize under the ASF with a service area of the Counties of Calhoun, Victoria and Matagorda, Texas, within the Port Lavaca-Point Comfort Customs and Border Protection port of entry, FTZ 155's existing Sites 1, 3, 4, 5 and 6 would be categorized as magnet sites, and FTZ 155's existing Sites 2 and 7 would be categorized as usage-driven sites;

Whereas, notice inviting public comment was given in the Federal Register (77 FR 22558, 04/16/2012) and the application has been processed pursuant to the FTZ Act and the Board's regulations; and,

Whereas, the Board adopts the findings and recommendations of the examiner's report, and finds that the requirements of the FTZ Act and the Board's regulations are satisfied, and that the proposal is in the public interest;

Now, Therefore, the Board hereby orders:

The application to reorganize FTZ 155 under the alternative site framework is approved, subject to the FTZ Act and the Board's regulations, including Section 400.13, to the Board's standard 2,000-acre activation limit for the zone, to a five-year ASF sunset provision for magnet sites that would terminate authority for Sites 1, 3, 4, 5 and 6 if not activated by August 31, 2017, and to a three-year sunset provision for usage-driven sites that would terminate authority for Sites 2 and 7 if no foreign-status merchandise is admitted for a bona fide customs purpose by August 31, 2015.

Signed at Washington, DC, this 29th day of August 2012.
Paul Piquado,
Assistant Secretary of Commerce for Import Administration, Alternate Chairman, Foreign-Trade Zones Board.
ATTEST:______
Andrew McGilvray,
Executive Secretary.

[FR Doc. 2012-21996 Filed 9-5-12; 8:45 am]

BILLING CODE 3510-DS-P